DEPARTMENT OF DEFENSE

Office of the Secretary

Uniform Formulary Beneficiary Advisory Panel; Notice of Federal Advisory Committee Meetings

AGENCY: Under Secretary of Defense for Personnel and Readiness, Department of Defense (DoD).

ACTION: Notice of Federal advisory committee meetings.

SUMMARY: The DoD is publishing this notice to announce the following Federal Advisory Committee meetings of the Uniform Formulary Beneficiary Advisory Panel (UFBAP) will take place.

DATES: Open to the public, Wednesday, September 25th, 2024, 10:00 a.m.-1:00 p.m. Eastern Standard Time (EST). Wednesday, December 18th, 2024, 10:00 a.m.-1:00 p.m. EST.

ADDRESSES: The meetings will be held telephonically or via conference call. The phone number for the remote access is CONUS: 1-888-831-4306; OCONUS: 1-210-234-8694; PARTICIPANT CODE: 9136304.

These numbers and the dial-in instructions will also be posted on the UFBAP website at: https://www.health.mil/Military-Health-Topics/Access-Cost-Quality-and-Safety/Pharmacy-Operations/BAP.

FOR FURTHER INFORMATION CONTACT: Designated Federal Official (DFO) Captain Tiffany F. Cline, USN, 703-681-2890 (voice), dha.ncr.j-6.mbx.baprequests@health.mil (email). Mailing address is 7700 Arlington Boulevard, Suite 5101, Falls Church, VA 22042-5101. Website: https://www.health.mil/Military-Health-Topics/Access-Cost-Quality-and-Safety/Pharmacy-Operations/BAP. The most up-to-date changes to the meeting agendas can be found on the website.

SUPPLEMENTARY INFORMATION: These meetings are being held under the provisions of chapter 10 of title 5, United States Code (U.S.C.) (commonly known as the “Federal Advisory Committee Act” or “FACA”) and 41 Code of Federal Regulations (CFR) 102-3.140 and 102-3.150.

Purpose of the Meetings: The UFBAP will review and comment on recommendations made by the Pharmacy and Therapeutics Committee to the Director, Defense Health Agency regarding the Uniform Formulary.

Agenda: Both the September 25, 2024 and the December 18, 2024 meetings will follow the same agenda.

1. 10:00 a.m.-10:10 a.m. Sign in for UFBAP members

2. 10:10 a.m.-10:40 a.m. Welcome and Opening Remarks

a. Welcome, Opening Remarks, and Introduction of UFBAP Members by CAPT Tiffany F. Cline, DFO, UFBAP

b. Public Written Comments by CAPT Tiffany F. Cline, DFO, UFBAP

c. Opening Remarks by Dr. Pamela Schweitzer, UFBAP Chair

d. Introductory Remarks by Dr. Edward Vonberg, Chief, Formulary Management Branch

3. 10:40 a.m.-11:45 a.m. Scheduled Therapeutic Class Reviews

4. 11:45 a.m.-12:30 p.m. Newly Approved Drugs Review

5. 12:30 p.m.-12:45 p.m. Pertinent Utilization Management Issues

6. 12:45 p.m.-1:00 p.m. Closing remarks

a. Closing Remarks by UFBAP Co-Chair

b. Closing Remarks by DFO, UFBAP

Meeting Accessibility: Pursuant to 5 U.S.C. 1009(a)(1) and 41 CFR 102-3.140 through 102-3.165, and subject to the availability of phone lines, the meetings are open to the public. Telephone lines are limited and available to the first 220 people dialing in. There will be 220 lines total: 200 domestic and 20 international, including leader lines.

Written Statements: Pursuant to 41 CFR 102-3.105(j) and 102-3.140(c), and 5 U.S.C. 1009(a)(3), interested persons or organizations may submit written statements to the UFBAP about its mission and/or the agenda to be addressed in the public meetings. Written statements should be submitted to the UFBAP's DFO. The DFO's contact information can be found in the FOR FURTHER INFORMATION CONTACT section of this notice. Written comments or statements must be received by the UFBAP's DFO at least five (5) calendar days prior to a meeting so they may be made available to the UFBAP for its consideration prior to a meeting. Written comments received are releasable to the public. The DFO will review all submitted written statements and provide copies to UFBAP.

Dated: August 21, 2024.
Aaron T. Siegel,
Alternate OSD Federal Register Liaison Officer, Department of Defense.

[FR Doc. 2024-19294 Filed 8-27-24; 8:45 am]

BILLING CODE 6001-FR-P